FEDERAL RETIREMENT THRIFT INVESTMENT BOARD

Notice of Board Meeting

DATES: July 26, 2022 at 10 a.m.

ADDRESSES: Telephonic. Dial-in (listen only) information: Number: 1-202-599-1426, Code: 303 807 400#; or via web: https://teams.microsoft.com/l/meetup-join/19%3ameeting_NjVmZmM5NzktM2Q5NS00MmYzLWFlNmYtMjBhNTExNTdkYTM3%40thread.v2/0?context=%7b%22Tid%22%3a%223f6323b7-e3fd-4f35-b43d-1a7afae5910d%22%2c%22Oid%22%3a%227c8d802c-5559-41ed-9868-8bfad5d44af9%22%7d

FOR FURTHER INFORMATION CONTACT: Kimberly Weaver, Director, Office of External Affairs, (202) 942-1640.

SUPPLEMENTARY INFORMATION:

Board Meeting Agenda

Open Session

1. Approval of the June 28, 2022 Board Meeting Minutes

2. Monthly Reports

(a) Participant Activity Report

(b) Legislative Report

3. Quarterly Report

(c) Investment Policy

(d) Budget Review

(e) Audit Status

4. Internal Audit Update

Closed Session

5. Information covered under 5 U.S.C. 552b (c)(9)(B).

Authority: 5 U.S.C. 552b (e)(1).

Dated: July 14, 2022.
Dharmesh Vashee,
General Counsel, Federal Retirement Thrift Investment Board.

[FR Doc. 2022-15438 Filed 7-19-22; 8:45 am]

BILLING CODE 6760-01-P